DEPARTMENT OF TRANSPORTATION

Federal Aviation Administration

14 CFR Part 71

[Docket No. FAA-2016-9377; Airspace Docket No. 16-AEA-8]

RIN-2120-AA66

Amendment of Class D and Class E Airspace for the Following Pennsylvania Towns; Lancaster, PA; Reading, PA; and Williamsport, PA

AGENCY: Federal Aviation Administration (FAA), DOT.

ACTION: Final rule.

SUMMARY: This action amends Class E airspace designated as an extension to Class D airspace by removing the Notice to Airmen (NOTAM) part-time status at Lancaster Airport, Lancaster, PA; Reading Regional Airport/Carl A. Spaatz Field, Reading, PA; and Williamsport Regional Airport, Williamsport, PA. This action also updates the geographic coordinates of these airports and the Picture Rocks navigation aid listed in the associated Class D and E airspace. This action enhances the safety and airspace management of instrument flight rules (IFR) operations at the airport. Also, this action replaces the outdated term Airport/Facility Directory with the term Chart Supplement in the associated Class D and E legal descriptions.

DATES: Effective 0901 UTC, November 8, 2018. The Director of the Federal Register approves this incorporation by reference action under title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, 1701 Columbia Avenue, College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace in the respective Class D and Class E airspace areas at Lancaster Airport, Lancaster, PA; Reading Regional Airport/Carl A. Spaatz Field, Reading, PA; and Williamsport Regional Airport, (formerly Williamsport-Lycoming County Airport), Williamsport, PA, for continued safety and management of IFR operations at these airports.

History

The FAA published a notice of proposed rulemaking in the Federal Register (82 FR 16955, April 7, 2017) for Docket No. FAA-2016-9377 to amend Class D and Class E airspace at Lancaster Airport, Lancaster, PA; Reading Regional Airport/Carl A. Spaatz Field, Reading, PA; and Williamsport Regional Airport, Williamsport, PA.

Interested parties were invited to participate in this rulemaking effort by submitting written comments on the proposal to the FAA. One comment was received supporting the proposal.

Class D and E airspace designations are published in paragraph 5000, 6002, 6004, and 6005, respectively, of FAA Order 7400.11B dated August 3, 2017, and effective September 15, 2017, which is incorporated by reference in 14 CFR part 71.1. The Class D and E airspace designations listed in this document will be published subsequently in the Order.

Availability and Summary of Documents for Incorporation by Reference

This document proposes to amend FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This action amends Title 14 Code of Federal Regulations (14 CFR) part 71 by amending Class E airspace to remove the NOTAM part-time status of the Class E airspace designated as an extension to a Class D surface area at Lancaster Airport, Lancaster, PA; Reading Regional Airport/Carl A. Spaatz Field, Reading, PA; and Williamsport Regional Airport, Williamsport, PA. These changes are necessary for continued safety and management of IFR operations at these airports. The geographic coordinates of these airports, as well as the Picture Rocks non-directional radio beacon (NDB) are amended in the associated Class D and E airspace to coincide with the FAA's aeronautical database. This action also updates the airport name to Williamsport Regional Airport (formerly Williamsport-Lycoming County Airport).

Additionally, an editorial change is made to the Class D and Class E airspace legal descriptions replacing Airport/Facility Directory with the term Chart Supplement.

Regulatory Notices and Analyses

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11B, Airspace Designations and Reporting Points, dated August 3, 2017, effective September 15, 2017, is amended as follows:

Paragraph 5000 Class D Airspace.

* * * * *

AEA PA D Lancaster, PA [Amended]

Lancaster Airport, PA

(Lat. 40°07′21″ N, long. 76°17′40″ W)

That airspace extending upward from the surface to and including 2,900 feet MSL within a 4.1-mile radius of Lancaster Airport. This Class D airspace area is effective during the specific dates and times established in advance by a Notice to Airmen. The effective date and time will thereafter be continuously published in the Chart Supplement.

* * * * *

AEA PA D Reading, PA [Amended]

Reading Regional Airport/Carl A. Spaatz Field, PA

(Lat. 40°22′43″ N, long. 75°57′55″ W)

That airspace extending upward from the surface to and including 2,800 feet MSL within a 4.8-mile radius of Reading Regional/Carl A. Spaatz Field. This Class D airspace area is effective during specific dates and times established in advance by a Notice to Airmen. The effective date and time will thereafter be continuously published in the Chart Supplement.

* * * * *

AEA PA D Williamsport, PA [Amended]

Williamsport Regional Airport, PA

(Lat. 41°14′30″ N, long. 76°55′19″ W)

That airspace extending upward from the surface to and including 3,000 feet MSL within a 4.2-mile radius of Williamsport Regional Airport. This Class D airspace area is effective during the specific dates and times established in advance by a Notice to Airmen. The effective date and time will thereafter be continuously published in the Chart Supplement.

Paragraph 6002 Class E Surface Area Airspace.

* * * * *

AEA PA E2 Lancaster, PA [Amended]

Lancaster Airport, PA

(Lat. 40°07′21″ N, long. 76°17′40″ W)

Lancaster VORTAC

(Lat. 40°07′12″ N, long. 76°17′29″ W)

Within a 4.1-mile radius of Lancaster Airport, and that airspace extending upward from the surface. This Class E airspace area is effective during the specific dates and times established in advance by a Notice to Airmen. The effective date and time will thereafter be continuously published in the Chart Supplement.

* * * * *

AEA PA E2 Reading, PA [Amended]

Reading Regional Airport/Carl A. Spaatz Field, PA

(Lat. 40°22′43″ N, long. 75°57′55″ W)

That airspace extending from the surface within a 4.8-mile radius of Reading Regional/Carl A. Spaatz Field. This Class E airspace area is effective during specific dates and times established in advance by a Notice to Airmen. The effective date and time will thereafter be continuously published in the Chart Supplement.

* * * * *

AEA PA E2 Williamsport, PA [Amended]

Williamsport Regional Airport, PA

(Lat. 41°14′30″ N, long. 76°55′19″ W)

Williamsport Regional Airport ILS localizer

(Lat. 41°14′17″ N, long. 76°56′17″ W)

Within a 4.2-mile radius of Williamsport Regional Airport. This Class E airspace area is effective during the specific dates and times established in advance by a Notice to Airmen. The effective date and time will thereafter be continuously published in the Chart Supplement.

Paragraph 6004 Class E Airspace Designated as an Extension to a Class D Surface Area.

* * * * *

AEA PA E4 Lancaster, PA [Amended]

Lancaster Airport, PA

(Lat. 40°07′21″ N, long. 76°17′40″ W)

Lancaster VORTAC

(Lat. 40°07′12″ N, long. 76°17′29″ W)

That airspace extending upward from the surface within 2.7 miles each side of the Lancaster VORTAC 260° radial extending from the VORTAC to 7.4 miles west of the VORTAC, and within 2.7 miles each side of the Lancaster VORTAC 128° radial extending from the VORTAC to 7.4 miles southeast of the VORTAC, and within 1.8 miles each side of the Lancaster VORTAC 055° radial extending from the VORTAC to 4.4 miles northeast of the VORTAC.

* * * * *

AEA PA E4 Reading, PA [Amended]

Reading Regional Airport/Carl A. Spaatz Field, PA

(Lat. 40°22′43″ N, long. 75°57′55″ W)

That airspace extending upward from the surface within 4 miles either side of the 172° bearing from Reading Regional/Carl A. Spaatz Field extending from the 4.8-mile radius of the airport to 10.1 miles south of the airport.

* * * * *

AEA PA E4 Williamsport, PA [Amended]

Williamsport Regional Airport, PA

(Lat. 41°14′30″ N, long. 76°55′19″ W)

Williamsport Regional Airport ILS localizer

(Lat. 41°14′17″ N, long. 76°56′17″ W)

That airspace extending upward from the surface from the 4.2-mile radius of Williamsport Regional Airport extending clockwise from a 270° bearing to the 312° bearing from the airport and within an 11.3-mile radius of the airport extending clockwise from the 312° bearing to the 350° bearing from the airport and within an 11.3-mile radius of the airport extending clockwise from the 004° bearing to the 099° bearing from the airport and within 3.5 miles south of the airport east localizer course extending from the 4.2-mile radius of the airport east to the 099° bearing from the airport.

Paragraph 6005 Class E Airspace Areas Extending Upward From 700 Feet or More Above the Surface of the Earth.

* * * * *

AEA PA E5 Reading, PA [Amended]

Reading Regional Airport/Carl A. Spaatz Field, PA

(Lat. 40°22′43″ N, long. 75°57′55″ W)

That airspace extending upward from 700 feet above the surface within a 10.3-mile radius of Reading Regional/Carl A. Spaatz Field.

* * * * *

AEA PA E5 Williamsport, PA [Amended]

Williamsport Regional Airport, PA

(Lat. 41°14′30″ N, long. 76°55′19″ W)

Picture Rocks NDB

(Lat. 41°16′37″ N, long. 76°42′36″ W)

Williamsport Hospital, Point In Space Coordinates

(Lat. 41°14′43″ N, long. 77°00′04″ W)

Williamsport Regional Airport ILS localizer

(Lat. 41°14′17″ N, long. 76°56′17″ W)

That airspace extending upward from 700 feet above the surface within a 17.9-mile radius of Williamsport Regional Airport extending clockwise from the 025° bearing to the 067° bearing from the airport, and within a 12.6-mile radius of Williamsport Regional Airport extending clockwise from the 067° bearing to a 099° bearing from the airport, and within a 6.7-mile radius of Williamsport Regional Airport extending clockwise from the 099° bearing to the 270° bearing from the airport, and within a 17.9-mile radius of Williamsport Regional Airport extending clockwise from the 270° bearing to the 312° bearing from the airport and within a 19.6-mile radius of Williamsport Regional Airport extending clockwise from the 312° bearing to the 350° bearing from the airport and within a 6.7-mile radius of Williamsport Regional Airport extending clockwise from the 350° bearing to the 025° bearing from the airport and within 4.4 miles each side of the Williamsport Regional Airport ILS localizer east course extending from the Picture Rocks NDB to 11.3 miles east of the NDB; and that airspace within a 6-mile radius of the point in space (Lat. 41°14′43″ N, long. 77°00′04″ W) serving Williamsport Hospital.

Issued in College Park, Georgia, on July 26, 2018.
Shawn Reddinger,
Acting Manager, Operations Support Group, Eastern Service Center, Air Traffic Organization.

[FR Doc. 2018-16607 Filed 8-2-18; 8:45 am]

BILLING CODE 4910-13-P